DEPARTMENT OF EDUCATION

[Docket ID ED-2018-IES-0126]

Proposed 2020 Update to the Classification of Instructional Programs (CIP) and Request for Comment

AGENCY: Institute for Education Sciences, Department of Education.

ACTION: Request for public comment; reopening of comment period.

SUMMARY: On December 27, 2018, the Department published in the Federal Register a request for public comment on the proposed updates to the Classification of Instructional Programs. That notice provided a 60-day comment period from December 27, 2018, through February 25, 2019. The Department is reopening the public comment period until March 26, 2019.

DATES: Comments must be submitted to the Department on or before March 26, 2019.

ADDRESSES: Submit your comments through the Federal eRulemaking Portal or via postal mail, commercial delivery, or hand delivery. The Department will not accept comments submitted by fax or by email or those submitted after the comment period. To ensure that the Department does not receive duplicate copies, please submit your comments only once. In addition, please include the Docket ID at the top of your comments.

• Federal eRulemaking Portal: Go to www.regulations.gov to submit your comments electronically. Information on using Regulations.gov, including instructions for finding a rule on the site and submitting comments, is available on the site under “How to use Regulations.gov” in the Help section.

• Postal Mail, Commercial Delivery, or Hand Delivery: The Department strongly encourages commenters to submit their comments electronically. If, however, you mail or deliver your comments about the proposed updates, address them to Commissioner, National Center for Education Statistics, Institute of Education Sciences, U.S. Department of Education, Potomac Center Plaza, 550 12th Street SW, 4th Floor, Washington, DC 20202-4160.

Privacy Note: The Department's policy is to make all comments received from members of the public available for public viewing in their entirety on the Federal eRulemaking Portal at www.regulations.gov. Therefore, commenters should be careful to include in their comments only information that they wish to make publicly available.

FOR FURTHER INFORMATION CONTACT: Michelle Coon, U.S. Department of Education, Potomac Center Plaza, 550 12th Street SW, 4th Floor, Washington, DC 20202-4160. Telephone: (202) 245-6689. Email: michelle.coon@ed.gov.

If you use a telecommunications device for the deaf (TDD) or a text telephone (TTY), call the Federal Relay Service (FRS), toll free, at 1-800-877-8339.

SUPPLEMENTARY INFORMATION:

Background: On December 27, 2018, the Department published in the Federal Register a request for public comments on the proposed updates to the Classification of Instructional Programs (83 FR 66687). This request provided a 60-day period, from December 27, 2018, to February 25, 2019, for members of the public to review and comment on the changes. However, due to the lapse in Federal funding, there was a partial government shut-down from December 22, 2018, to January 25, 2019, which impacted several Federal agencies that would be affected by the proposed changes to the 2020 CIP. To account for this, the Department is reopening the public comment period until March 26, 2019. The Department must now receive your comments submitted through the Federal eRulemaking Portal on or before 11:59 p.m., Eastern Time, March 26, 2019, hand delivered on or before 5:00 p.m., Eastern Time, March 26, 2019, or postmarked on or before March 26, 2019, if delivered by postal mail or commercial delivery.

Accessible Format: Individuals with disabilities can obtain this document in an accessible format (e.g., Braille, large print, audiotape, or compact disc) on request to the contact person listed under FOR FURTHER INFORMATION CONTACT.

Electronic Access to This Document: The official version of this document is the document published in the Federal Register.You may access the official edition of the Federal Register and the Code of Federal Regulations at www.govinfo.gov. At this site, you can view this document, as well as all other documents of this Department published in the Federal Register, in text or Adobe Portable Document Format (PDF). To use PDF, you must have Adobe Acrobat Reader, which is available free at this site.

You may also access documents of the Department published in the Federal Register by using the article search feature at: www.federalregister.gov. Through the advanced search feature at this site, you can limit your search to documents published by the Department.

Mark Schneider,
Director, Institute of Education Sciences.

[FR Doc. 2019-03701 Filed 2-28-19; 8:45 am]

BILLING CODE 4000-01-P